DEPARTMENT OF HOUSING AND URBAN DEVELOPMENT

[Docket No. FR-7082-N-01]

60-Day Notice of Proposed Information Collection: HUD Environmental Review Online System (HEROS); OMB Control No.: 2506-0202

AGENCY: The Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 29, 2024.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Glenn Schroeder, Program Analyst, OEE, Department of Housing and Urban Development, 451 7th Street SW, Washington, DC 20410; email at glenn.a.schroeder@hud.gov or telephone (202) 402-5849. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: HUD Environmental Review Online System (HEROS).

OMB Approval Number: 2506-0202.

Type of Request: Extension of currently approved collection.

Form Number: N/A.

Description of the need for the information and proposed use: 24 CFR part 58, “Environmental Review Procedures for Entities Assuming HUD Environmental Responsibilities” requires units of general local government receiving HUD assistance to maintain a written environmental review record for all projects receiving HUD funding documenting compliance with the National Environmental Policy Act (NEPA), the regulations of the Council on Environmental Quality, related federal environmental laws, executive orders, and authorities, and part 58 procedure. Various laws that authorize this procedure are listed in 24 CFR 58.1(b). 24 CFR part 50, “Protection and Enhancement of Environmental Quality,” implements procedures for HUD to perform environmental reviews for projects where part 58 is not permitted by law. Under Part 50, HUD staff complete the environmental review records, but they may use any information supplied by an applicant or contractor, provided HUD independently evaluates the information and is responsible for its accuracy and prepares the environmental finding. HEROS allows users to complete, store, and submit their environmental review records and documents online. HEROS is currently optional for Responsible Entity and other non-HUD users, who may continue to use paper-based environmental review formats.

Respondents: The respondents are State, local, and Tribal governments receiving HUD funding who are required to complete environmental reviews as well as sub-recipients, applicants, and third-party providers who submit information to be used in the completion of environmental review records.

Estimated Number of Respondents: 500.

Estimated Number of Responses: 25 per year per unit of government or organization.

Frequency of Response: 58.44.

Average Hours per Response: varies.

Total Estimated Burdens: 36,662.

Information collection | Number of respondents | Frequency of response | Responses per annum | Burden hour per response | Annual burden hours | Hourly cost per response | Annual cost
Exempt/CENST reviews | 500 | 34.75 | 17,376 | 0.75 | 13,032 | $39.63 | $205,312.50
Reviews that convert to exempt | 500 | 12.35 | 6,147 | 2 | 12,294 | 39.63 | 292,000.00
CEST/EA reviews | 250 | 11.34t | 2,834 | 4 | 11,336 | 39.63 | 102,200.00
Total | 500 | 58.44 | 26,357 | varies | 36,662 | 39.63 | 1,452,915.06

Note: Average hours per response varies substantially depending on level of review. Reviews that are exempt or Categorically Excluded Not Subject To the related laws and authorities (CENST) take roughly 45 minutes to complete. Reviews that are Categorically Excluded Subject To the related laws (CEST) or require an Environmental Assessment (EA) take an average of 4 hours to complete. Some CEST reviews “convert to exempt,” and require roughly 2 hours to complete.

HUD grants cover all eligible costs including staff work. Hourly cost per response based on hourly mean wage of urban planners working for local government (Bureau of Labor Statistics, https://www.bls.gov/oes/current/oes193051.htm).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2024-04085 Filed 2-27-24; 8:45 am]

BILLING CODE 4210-67-P